DEPARTMENT OF TRANSPORTATION

Federal Aviation Administration

[Docket No. FAA-2025-3156]

Agency Information Collection Activities: Requests for Comments; Clearance of a Renewed Approval of Information Collection: Small Unmanned Aircraft Registration System; Correction

AGENCY: Federal Aviation Administration (FAA), U.S. Department of Transportation (DOT).

ACTION: Notice and request for comments; correction.

SUMMARY: On January 29, 2026, FAA published a notice and request for comments titled “Agency Information Collection Activities: Requests for Comments; Clearance of a Renewed Approval of Information Collection: Small Unmanned Aircraft Registration System”. That notice and request for comments incorrectly stated the docket number. This notice corrects the docket number.

DATES: The correction is effective February 9, 2026.

FOR FURTHER INFORMATION CONTACT: Shantel Young, Management and Program Analyst, Civil Aviation Registry, Aircraft Registration Branch AFB-710 Aircraft Registration Branch, P.O. Box 25504, Oklahoma City, OK 73125; email shantel.young@faa.gov.

SUPPLEMENTARY INFORMATION: On January 29, 2026, “Agency Information Collection Activities: Requests for Comments; Clearance of a Renewed Approval of Information Collection: Small Unmanned Aircraft Registration System” was published in the Federal Register at 91 FR 3973. After publication, the FAA discovered that the docket number was incorrect. This was not the FAA's intent. The old docket number FAA-2025-18382 has been removed and replaced by the new docket number FAA-2025-3156.

Correction

In the Federal Register of January 29, 2026, in FR Doc. 2026-01798, on page 3973, in the third column, docket number “FAA-2025-18382” is corrected to read “FAA-2025-3156”.

Issued in Oklahoma City, OK, on February 4, 2026.
Shantel Young,
Management and Program Analyst, Civil Aviation Registry, Aircraft Registration Branch AFB-710.

[FR Doc. 2026-02469 Filed 2-6-26; 8:45 am]

BILLING CODE 4910-13-P